DEPARTMENT OF TRANSPORTATION

Office of the Secretary

[Docket No. DOT-OST-2016-0204]

Exploring Industry Practices on Distribution and Display of Airline Fare, Schedule, and Availability Information

AGENCY: Office of the Secretary (OST), Department of Transportation (DOT).

ACTION: Suspension of comment period.

SUMMARY: DOT is suspending the public comment period for the Request for Information (RFI) Exploring Industry Practices on Distribution and Display of Airline Fare, Schedule, and Availability Information, effective March 10, 2017. DOT published the RFI on October 31, 2016, and the comment period initially closed on December 30, 2016. On December 22, 2016, DOT extended the comment period to March 31, 2017. The suspension of the comment period will allow the President's appointees the opportunity to review and consider this action.

DATES: The comment period for this RFI is indefinitely suspended effective March 10, 2017.

ADDRESSES: Docket: For access to the docket to read background documents and comments received, go to http://www.regulations.gov or to the street address listed above. Follow the online instructions for accessing the docket.

FOR FURTHER INFORMATION CONTACT: Kyle-Etienne Joseph, Trial Attorney, or Kimberly Graber, Chief, Consumer Protection and Competition Law Branch, Office of the Assistant General Counsel for Aviation Enforcement and Proceedings, U.S. Department of Transportation, 1200 New Jersey Ave. SE., Washington, DC 20590, 202-366-9342, 202-366-7152 (fax), kyle-etienne.joseph@dot.gov or kimberly.graber@dot.gov (email).

Issued this 2nd day of March 2017, in Washington, DC.
Judith S. Kaleta,
Deputy General Counsel.

[FR Doc. 2017-04696 Filed 3-9-17; 8:45 am]

BILLING CODE 4910-9X-P